DEPARTMENT OF LABOR

Employment and Training Administration

[TA-W-85,024]

Emerson Network Power; a Subsidiary of Emerson; Including Workers Whose Unemployment Insurance (UI) Wages Are Reported Through Liebert Corporate and Liebert North America, Inc.; Delaware, Ohio; Amended Certification Regarding Eligibility To Apply for Worker Adjustment Assistance and Alternative Trade Adjustment Assistance

In accordance with Section 223 of the Trade Act of 1974, as amended (“Act”), (19 U.S.C. 2273), the Department of Labor issued a Certification of Eligibility to Apply for Worker Adjustment Assistance on February 20, 2014, applicable to workers of Emerson Network Power, a subsidiary of Emerson, Delaware, Ohio. The workers are engaged in activities related to the production of warehousing and distribution of uninterrupted power supplies and power distribution and switching equipment. The notice was published in the Federal Register on March 14, 2014 (79 FR 14540).

At the request of the State agency, the Department reviewed the certification for workers of the subject firm. New information shows that Emerson is the parent firm of Liebert Corporation and Liebert North America, Inc. Some workers separated from employment at the Delaware, Ohio location of Emerson Network Power, a subsidiary of Emerson, had their wages reported through a separate unemployment insurance (UI) tax account under the names Liebert Corporation and Liebert North America.

Accordingly, the Department is amending this certification to include workers of the subject firm unemployment insurance (UI) wages are reported through Liebert Corporation and Liebert North America.

The amended notice applicable to TA-W-85,024 is hereby issued as follows:

All workers of Emerson Network Power, a subsidiary of Emerson, including workers whose unemployment insurance (UI) wages are reported through Liebert Corporation and Liebert North America, Inc., Delaware, Ohio, who became totally or partially separated from employment on or after January 20, 2013, through February 20, 2016, are eligible to apply for adjustment assistance under Section 223 of the Trade Act of 1974, and are also eligible to apply for alternative trade adjustment assistance under Section 246 of the Trade Act of 1974.

Signed at Washington, DC, this 25th day of March 2014.
Michael W. Jaffe,
Certifying Officer, Office of Trade Adjustment Assistance.

[FR Doc. 2014-07753 Filed 4-7-14; 8:45 am]

BILLING CODE 4510-FN-P